DEPARTMENT OF EDUCATION

Grants for School-Based Student Drug-Testing Programs

AGENCY: Office of Safe and Drug-Free Schools, Department of Education.

ACTION: Notice of final eligibility and application requirements, priorities, and selection criteria.

SUMMARY: The Assistant Deputy Secretary for Safe and Drug-Free Schools announces eligibility and application requirements, priorities, and selection criteria for the School-Based Student Drug-Testing program. We may use these requirements, priorities, and selection criteria for competitions in fiscal year 2005 and later years. We take this action to focus Federal financial assistance on an identified national need. We intend for these requirements, priorities, and selection criteria to increase the use of drug testing as a means to deter student drug use.

EFFECTIVE DATE: These requirements, priorities, and selection criteria are effective August 8, 2005.

FOR FURTHER INFORMATION CONTACT: Robyn L. Disselkoen or Sigrid Melus, U.S. Department of Education, 400 Maryland Avenue, SW., Washington, DC 20202-6450. Telephone: (202) 260-3954. E-mail: OSDFSdrugtesting@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Drug abuse interferes with a student's ability to learn and disrupts the orderly environment necessary for academic achievement. Although drug use among America's youth has declined in recent years, far too many young people continue to use illegal drugs. The Department of Education, through these requirements, priorities, and selection criteria, is encouraging schools and communities to consider the use of mandatory random and voluntary student drug-testing programs as a tool to support other drug-prevention efforts.

We published a notice of proposed eligibility and application requirements, priorities, and selection criteria for this program in the Federal Register on April 21, 2005 (70 FR 20739).

Analysis of Comments and Changes

In response to our invitation in the notice of proposed eligibility and application requirements, priorities, and selection criteria, nine parties submitted comments. Three other comments did not address the proposed eligibility and application requirements, priorities, and selection criteria and are not discussed here. An analysis of the comments and of any changes in the eligibility and application requirements, priorities, and selection criteria since publication of the notice of proposed eligibility and application requirements, priorities, and selection criteria follows.

We group major issues according to subject. Generally, we do not address technical and other minor changes and suggested changes the law does not authorize us to make under the applicable statutory authority.

Eligibility Requirements

Comment: One commenter suggested that State educational agencies be able to apply for grant funds.

Discussion: Eligible applicants for this competition include public and private entities. To the extent that a State educational agency meets the definition of a public entity and all other requirements of the competition, it may apply.

Change: None.

Priority 1—Mandatory Random and Voluntary Student Drug-Testing Programs

Comments: Two commenters expressed confusion over the wording in option 3 of Priority 1. In the second paragraph, under option 3, we stated that schools that proposed a voluntary drug-testing program could not prohibit students who did not consent to be drug tested from participating in school or extracurricular activities. Both commenters requested that we insert the word “only” in the sentence as follows: “applicants who propose only voluntary drug testing * * *” to clarify that the last paragraph of Priority 1 applies only to option 3, regarding voluntary drug testing, and not to options 1 or 2, mandatory random testing.

Discussion: We agree that the wording in the second paragraph under option 3 could confuse some readers. We intend that the wording apply only to students in a voluntary testing program even when applicants propose projects that combine voluntary and mandatory random components.

Change: We have merged the first and second paragraphs under option 3 to indicate clearly that the requirement applies only to a voluntary drug-testing program.

Comment: One commenter stated that it is unreasonable to limit a drug-testing program to only one grade in a school with many grades.

Discussion: Priority 1 specifies that a drug-testing program may be implemented in one or more grades 6 through 12. Applicants are free to implement a drug-testing program in as many grades from 6 through 12 as they choose.

Change: None.

Priority 2—National Evaluation of Mandatory Random Student Drug-Testing Programs

Comments: Two commenters questioned why Priority 2 does not permit applicants to have a program that includes both mandatory random and voluntary drug testing.

Discussion: We are establishing the restrictions in Priority 2 as part of the national evaluation requirements. The goal of the national evaluation is to study the effects of mandatory random drug testing on a sample of students. Students who volunteer to be drug tested may not be using drugs to the same degree as those for whom drug testing is mandatory. Therefore, allowing schools in the evaluation to have both a voluntary and a mandatory random program would likely make it more difficult to identify the impact of mandatory random programs.

Change: None.

Comment: One commenter suggested that the clear delineation of the effect of mandatory random drug testing may be less than expected in the proposed research design because of the requirement that all applicants show desire and commitment for a program that will reduce drug use, regardless of whether a program is implemented. The commenter believes that schools that are committed to implementing drug testing will always have a better result, regardless of the intervention, than a school that knows it is always going to be a control.

Discussion: There may be a larger difference in the incidence of substance use for schools that desire, and have implemented, a mandatory random drug-testing program compared to schools that are not interested in and not implementing such a program. However, that difference will reflect both the true impact of implementing the program and the selection bias of schools that choose to adopt those programs; randomly assigning schools that are similarly motivated better isolates the effect of the program.

Change: None.

Comment: One commenter wanted us to include the explicit statement that grantees that participate in the national evaluation must also agree to cooperate fully in the contractor's separate Institutional Review Board (IRB) requirements in order to comply with Department of Education regulations and human research protection procedures.

Discussion: Grantees whose sites are selected for the national evaluation are not required to have IRB approval for their activities in support of the national evaluation. The national evaluator only—not the grantees—will conduct the research activities, including survey administration and obtaining parental permission. The grantees will facilitate communication between the national evaluator and the parents and/or students by, for example, providing brochures and contact information for the contractor, but they will not be involved in conducting the research or speaking on behalf of the national evaluator.

Change: None.

Comment: One commenter argued that for the funded projects to constitute a valid research sample, there needs to be harmonization of policies and procedures, such as the number of tests and frequency of testing for each student.

Discussion: We do not think that policies and procedures need to be harmonized in order to produce a valid research sample. Implementation of modestly different mandatory random drug-testing programs by different school districts will not affect the validity of the study, provided that the evaluation is understood as estimating the impact of the average program as implemented by the average school district in the study. (Even if the program model adopted were identical across districts, the districts would almost certainly differ in some aspects of their implementation of the program, making complete harmonization of policies and procedures impossible.) Nonetheless, we are concerned that, for the treatment schools and control schools to be comparable for the sake of the evaluation, the matched schools within each district will need to be committed, prior to random assignment, to implementing the same policies and procedures with regard to drug testing.

Change: We have added a requirement to Priority 2 that applicants develop and implement mandatory random student drug-testing policies and procedures that are carried out consistently in all schools selected to implement drug testing.

Comment: One commenter stated that two matched schools will be insufficient for a valid research sample due to requirements for statistical power analysis and problems with “nesting” and differences from site to site. The commenter suggested that 75 to 100 schools should be involved with this research design, following one cohort of 9th- and 10th-graders over two years.

Discussion: We do not agree with the basic premise that 75 to 100 schools are needed in the research design because we have designed the study to detect a 10.2 percent reduction in the 30-day prevalence of illicit drug use. In order to detect this effect, we need 30 schools. Our assumptions for the study design are: (1) A two-tailed test at 80 percent power and a 5 percent statistical significance; (2) an R2 value of 0.50 because of the use of prior student drug use as a covariate; (3) a non-random sample of 30 schools with random assignment of 15 schools to receive the intervention and 15 schools to serve as controls; (4) a sample size of 200 students per school with an 80 percent response rate, and (5) an intra-class correlation coefficient of 0.05. We estimate that this design would generate minimum detectable effects (MDE) of approximately 0.17 standard deviation for continuous outcomes, and 7.8 percent for binary outcomes where the control group mean is 30 percent. Because the sample of schools is purposive, and statistically generalizing beyond this sample is not valid, we have calculated the power with a fixed-effects, rather than random effects, framework. Under our assumptions, the sample of 30 schools would be sufficient to detect the reduction of 10.2 percent in the 30-day prevalence of use of any illicit drug. If the true impact were smaller than the MDE, that would not challenge the validity of the study, only its precision in detecting smaller impacts from drug-testing programs.

Change: None.

Comment: A commenter stated that the statistical design of the evaluation raises serious issues of confidentiality following from identification of specific individuals for the evaluation component each year. The evaluation, according to the commenter, will require the development of separate lists of students eligible for the mandatory random drug-testing program and students who are not eligible, as well as lists of students in the corresponding groups at the control school. Subsequently, in the commenter's example, for each of two implementation years, 100 students in the random testing pool and 100 students not in the pool, and 200 students at the control schools, will be selected from the lists to respond to the evaluation questionnaire.

Discussion: The national evaluator responsible for data collection will respect the confidentiality of all student records and take necessary measures to ensure the security of the data. Surveying students during school hours would not pose a problem because students' responses to the survey would remain confidential. The fact that students are voluntarily participating in the study would not necessarily be private, but this issue is present in all of our studies involving sampling of students for data collection in school settings. Students subject to drug testing in Priority 2 will be athletes and students in competitive extracurricular activities. The study will be carried out in accordance with the requirements of the Family Educational Rights and Privacy Act (FERPA) and the Protection of Pupil Rights Amendment (PPRA).

Change: We have added a requirement to the application requirements that all applicants must provide a written assurance that all proposed activities will be carried out in accordance with the requirements of FERPA and PPRA.

Comment: One commenter stated that schools need to assist in obtaining parental consent as part of their participation in the national evaluation.

Discussion: In the notice of proposed eligibility and application requirements, priorities, and selection criteria, we proposed a general requirement that schools cooperate with the evaluation, which we believe would include cooperating with the national evaluator to obtain parental consent. We agree, however, that the requirement should specifically include support by schools of the evaluator's efforts to obtain all required parental consent.

Change: We are adding a requirement in Priority 2 that applicants that agree to participate in the national evaluation provide an assurance that they will cooperate with the national evaluator in obtaining parental consent for student participation in surveys the national evaluator will administer in all of the selected schools (control and experimental).

Comment: One commenter suggested that schools need to require mandatory random testing for the entire academic year for all eligible students, not just during one sports season, for example. Testing only during the season of sports participation reduces the positive effects of random student drug testing on illegal drug use significantly.

Discussion: We agree that testing of athletes and students in extracurricular activities during the entire academic year is important to maintaining the deterrent effects of drug testing.

Change: We have added language that requires grantees under Priority 2 to institute a policy of mandatory random drug testing for the entire academic year in the schools selected to implement drug testing, and to ensure, to the extent feasible, that all students who participate in the drug-testing program remain in the random drug-testing pool for the entire academic year.

Application Requirements

Comment: One commenter noted that the current language concerning confidentiality of drug test results indicating that a student is taking legal medications would prohibit a medical review officer from communicating necessary information to authorized school officials regarding a positive drug test.

Discussion: As part of the general application requirements, applicants must provide a written assurance that all positive drug tests will be reviewed by a certified medical review officer. Applicants must also provide a plan to ensure the confidentiality of drug-testing results, including a provision that prohibits the party conducting the drug tests from disclosing to school officials any information about a student's use of legal medications. The medical review officer would confirm with parents whether a student's positive drug test resulted from a legal medication. If so, the medical review officer would report the test result as a negative for illegal drugs.

Change: None.

Comment: One commenter recommended that we not exclude from this competition recipients or beneficiaries of a prior grant in 2003 under the Department's Demonstration Grants for Student Drug-Testing competition.

Discussion: Congress appropriated funds in FY 2005 to expand student drug-testing programs. It is our intent to extend Federal funding for student drug-testing programs to as many new school districts as possible. Allowing current grantees to compete for these funds would decrease the total number of school districts that could receive Federal support to implement a student drug-testing grant.

Change: None.

Comment: One commenter recommended that we include text stating that the implementation of a mandatory random drug-testing or voluntary drug-testing program be governed by already approved policies.

Discussion: The requirements in this notice of final eligibility and application requirements, priorities, and selection criteria will govern student drug-testing programs funded through this program. These requirements represent the necessary components of a student drug-testing program with a drug testing policy, and LEAs should incorporate these components into their own drug-testing policy. We encourage LEAs to develop student drug-testing policies before beginning drug testing but do not require that an LEA have a policy as a prerequisite for receiving a grant award. LEAs need time to develop a student drug-testing policy that has been reviewed and accepted by their school administrators and school boards before it can be implemented.

Change: None.

Comments: Two commenters expressed concern about the ten percent cap on the cost of site-based evaluations.

Discussion: We believe that the ten percent cap on site-based evaluations will provide grantees with sufficient funds to carry out their local evaluation. We estimate the average size of an award as $200,000, up to $20,000 of which could be used to carry out a local evaluation that reports on the Government Performance and Results Act (GPRA) performance measures and specific program goals and objectives.

Change: None.

Selection Criteria: General

Comment: One commenter recommended that the performance target of the reduction of drug use by five percent should only be tied to program implementation in years two and three.

Discussion: We understand that progress in the first year may be minimal while the grantee collects baseline data. We think it important, however, for grantees to report annually on progress in meeting the performance targets, as well as their project goals and objectives. This information is necessary to help us assess if grantees are making progress and to determine technical assistance needs.

Change: None.

Comment: One commenter recommended that we award student drug-testing grants on a first-come, first-serve basis for applicants that use a standard pre-approved, drug-testing program.

Discussion: We cannot provide a standard drug-testing program for all applicants to use because each applicant must design a program that best suits the needs and requirements of its individual community. Variations in State laws and local policies must be factored into each individual program. Moreover, each applicant must provide an assurance that legal counsel has reviewed the proposed program and advised the applicant that the program activities do not appear to violate established constitutional principles or State and Federal requirements related to implementing a student drug-testing program.

Change: None.

Comment: One commenter recommended that LEAs funded through this program be required to have a strong evaluation design for their local efforts. The commenter contended that grantees should commit to cooperating with a national evaluation of the student drug-testing program, which addresses such issues as: (1) The reduction of the prevalence of drug use among students, (2) the effectiveness of a random program compared to a voluntary program, (3) how other coexisting strategies affect the reduction of drug use, and (4) if there are any unintended consequences linked to drug testing.

Discussion: Under Priority 2 we will carry out a national evaluation of student-drug testing programs designed to measure the effectiveness of this strategy across all implementation sites. We think that evaluating mandatory drug testing programs will yield better information about drug testing as an effective deterrent than in comparing mandatory random to voluntary drug-testing programs. Priority 1 requires all grantees to conduct site-based evaluations on program effectiveness using objective performance measures related to the outcomes of the project and the Government Performance and Results Act performance measure on the incidence of drug use in the past month and past year. Issues such as a comparison of mandatory random to voluntary drug testing may be part of local evaluations.

Change: None.

Selection Criteria: Project Personnel

Comment: Two commenters asked whether a grantee under this program may hire specific project personnel such as a social worker and a prevention coordinator.

Discussion: Grant funds may be used to pay for staff who implement and carry out the drug-testing program. When a student tests positive for drug use, staff may be paid for reasonable time spent counseling the student, conducting a drug abuse assessment, and referring a student to drug treatment services. No funds may be used to pay for drug abuse treatment services. Within these parameters, we believe that decisions on specific staff to hire and to pay under the grant should be left to individual grantees.

Change: None.

Scope of Program

Comment: Several commenters suggested that we broaden the scope of the overall grant competition. One commenter asked us to ensure that appropriate health and mental heath programs are in place before student drug testing takes place; one commenter asked us to allow funds to be used for general drug prevention activities or training in addition to drug testing; and another asked us to expand the program so that students in co-curricular activities could be drug tested.

Discussion: We understand the importance of providing assistance to students who test positive for substance abuse, which is why the program requires that applicants provide a comprehensive plan for referring students who are identified as drug users through the testing program to a student assistance program, counseling, or drug treatment. The drug-testing program will be part of an existing, comprehensive drug prevention program in the schools to be served. We want funds for this program to be used for drug testing and not for drug prevention curricula or other prevention programs that can be funded from other sources. The Safe and Drug Free Schools and Communities Act State Grants, for example, provide funds to LEAs to implement prevention programs that are responsive to local needs.

We have limited the scope of the random drug-testing programs to students involved in athletics and competitive, school-sponsored, extracurricular activities because drug-testing programs for these students generally are consistent with established constitutional principles. Programs for students in co-curricular activities have not yet received the same level of judicial scrutiny.

Change: None.

Note: This notice does not solicit applications. In any year in which we choose to use one or more of these eligibility and application requirements, priorities, or selection criteria, we invite applications through a notice in the Federal Register. When inviting applications, we designate each priority as absolute, competitive preference, or invitational. The effect of each priority is as follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Eligibility Requirements

We are limiting eligibility for grants to local educational agencies (LEAs) and public and private entities.

Priorities

Priority #1—Mandatory Random and Voluntary Student Drug-Testing Programs

Under this priority, we will provide Federal financial assistance to eligible applicants to develop and implement, or expand, school-based mandatory random or voluntary drug-testing programs for students in one or more grades 6 through 12. Any drug-testing program conducted with funds awarded under this priority must be limited to one or more of the following:

(1) Students who participate in the school's athletic program;

(2) Students who are engaged in competitive, extracurricular, school-sponsored activities; and

(3) A voluntary drug-testing program for students who, along with their parent or guardian, have provided written consent to participate in a random drug-testing program. Applicants that propose voluntary drug testing for students who, along with their parent or guardian, provide written consent, must not prohibit students who do not consent from participating in school or extracurricular activities.

Priority #2—National Evaluation of Mandatory Random Student Drug-Testing Programs

Under this priority, we will provide Federal financial assistance to eligible applicants to develop and implement school-based mandatory random drug-testing programs for students in one or more grades 6 through 12.

Any drug-testing program conducted with funds awarded under this priority must be limited to one or more of the following:

(1) All students who participate in the school's athletic program; and

(2) All students who are engaged in competitive, extracurricular, school-sponsored activities.

Applicants for this priority must propose drug testing in two or more schools within the same LEA that do not have an existing drug-testing program in operation. Drug testing must include, at a minimum, students in three or more grades from 9 through 12. In addition, applicants for this priority must:

(1) Not have a voluntary testing component proposed as part of their program;

(2) Provide an assurance that the schools randomly assigned to not begin mandatory random drug testing will not implement any drug-testing program for the duration of the national evaluation;

(3) Agree to cooperate with all data collection activities that the national evaluation will conduct in all the schools;

(4) Develop and implement mandatory random drug-testing policies and procedures to be carried out consistently in all schools selected to implement drug testing;

(5) Institute a policy of mandatory random drug-testing for the entire academic year in the schools selected to implement drug testing;

(6) Ensure that, to the extent feasible, all students who participate in the drug-testing program remain in the random drug-testing pool for the entire academic year; and

(7) Agree to participate in the national evaluation and provide an assurance that the applicant will cooperate with the national evaluator in obtaining parental consent for student participation in surveys that the national evaluator will administer in all the selected schools (control and experimental).

At the time of the grant award, the Department of Education's evaluator will randomly assign the schools either to receive the intervention (mandatory random drug testing) or not receive the intervention (no mandatory random drug testing). The evaluator will collect outcome data in both sets of schools.

Application Requirements: The following requirements apply to all applications submitted under this program:

(1) Applicants may not submit more than one application for an award under this program.

(2) Applicants may not have been the recipient or beneficiary of a grant in 2003 under the Department of Education Demonstration Grants for Student Drug-Testing competition.

(3) Non-LEA applicants must submit a letter of agreement to participate from an LEA. The letter must be signed by the applicant and an authorized representative of the LEA. Letters of support are not acceptable as evidence of the required agreement.

(4) Funds may not be used for the following purposes:

(a) Student drug tests administered under suspicion of drug use;

(b) Incentives for students to participate in programs;

(c) Drug treatment; or

(d) Drug prevention curricula or other prevention programs.

(5) Applicants must:

(a) Identify a target population and demonstrate a significant need for drug testing within the target population;

(b) Explain how the proposed drug-testing program will be part of an existing, comprehensive drug prevention program in the schools to be served;

(c) Provide a comprehensive plan for referring students who are identified as drug users through the testing program to a student assistance program, counseling, or drug treatment if necessary;

(d) Provide a plan to ensure the confidentiality of drug-testing results, including a provision that prohibits the party conducting drug tests from disclosing to school officials any information about a student's use of legal medications;

(e) Limit the cost of site-based evaluations to no more than 10 percent of total funds requested;

(f) Provide written assurances of the following:

(i) That results of student drug tests will not be disclosed to law enforcement officials;

(ii) That results of student drug tests will be destroyed when the student graduates or otherwise leaves the LEA or private school involved;

(iii) That all positive drug tests will be reviewed by a certified medical review officer;

(iv) That legal counsel has reviewed the proposed program and advised that the program activities do not appear to violate established constitutional principles or State and Federal requirements related to implementing a student drug-testing program; and

(v) That all proposed activities will be carried out in accordance with the requirements of the Family Educational Rights and Privacy Act (FERPA) and the Protection of Pupil Rights Amendment (PPRA).

Selection Criteria: The Secretary will select from the following those criteria and factors that will be used to evaluate applications under any competition conducted under this program.

Note: The maximum score for all of these criteria is 100 points. The points or weights assigned to each criterion are in the application package for this competition.

(1) Need for Project.

(a) The documented magnitude of student drug use in schools to be served by the drug-testing program, including the nature, type, and frequency, if known, of drugs being used by students in the target population; and

(b) Other evidence of student drug use, such as reports from parents, students, school staff, or law enforcement officials.

(2) Significance.

(a) The extent to which the proposed project includes a thorough, high-quality review of Federal and State laws and relevant Supreme Court decisions related to the proposed student drug-testing program;

(b) The extent to which the applicant demonstrates school and community support for the student drug-testing program and has included a diversity of perspectives such as those of parents, counselors, teachers, and school board members, in the development of the drug-testing program; and

(c) The importance or magnitude of the results or outcomes likely to be attained by the student drug-testing program.

(3) Quality of Project Design.

(a) The extent to which the project will be based on up-to-date knowledge from research and effective practice, including the methodology for the random selection of students to be tested and procedures outlining the collection, screening, confirmation, and review of student drug tests by a certified medical review officer;

(b) The extent to which the applicant identifies the drugs for which it plans to test and includes a rationale for the type of testing device it plans to use for each drug test;

(c) The quality of the applicant's plan to develop and implement a drug-testing program that includes—

(i) Detailed procedures for responding to a positive drug test, including parental notification and referral to student assistance programs, drug education, or formal drug treatment, if necessary; and

(ii) Clear consequences for a positive drug test.

(4) Management Plan.

(a) The extent to which the applicant describes appropriate chain-of-custody procedures for test samples and demonstrates a commitment to use labs certified by the Substance Abuse and Mental Health Services Administration (SAMHSA) to process student drug tests; and

(b) The quality of the applicant's plan to ensure confidentiality of drug test results, including limiting the number of school officials who will have access to student drug-testing records.

(5) Quality of Project Evaluation.

(a) The extent to which the methods of evaluation include the use of objective performance measures that are clearly related to the intended outcomes of the project; and

(b) The quality of the applicant's plan to collect data on the Government Performance and Results Act (GPRA) performance measure established by the Department for this program and to report these data to the Department.

Note: The Department has established the following GPRA performance measure for the School-Based Student Drug Testing program: the reduction of the incidence of drug use in the past month and past year. The Secretary has set an overall performance target that calls for the prevalence of drug use by students in the target population to decline by five percent annually.

Executive Order 12866

This notice of final requirements, priorities, and selection criteria has been reviewed in accordance with Executive Order 12866. Under the terms of the order, we have assessed the potential costs and benefits of this regulatory action.

The potential costs associated with the notice of final requirements, priorities, and selection criteria are those we have determined as necessary for administering this program effectively and efficiently.

In assessing the potential costs and benefits—both quantitative and qualitative—of this notice of final requirements, priorities, and selection criteria, we have determined that the benefits of the final requirements, priorities, and selection criteria justify the costs.

We have also determined that this regulatory action does not unduly interfere with State, local, and tribal governments in the exercise of their governmental functions.

We summarized the costs and benefits of this regulatory action in the notice of proposed eligibility and application requirements, priorities, and selection criteria.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 7131.

Dated: July 5, 2005.
Deborah A. Price,
Assistant Deputy Secretary for Safe and Drug-Free Schools.

[FR Doc. 05-13495 Filed 7-6-05; 8:45 am]

BILLING CODE 4000-01-P